DEPARTMENT OF COMMERCE

Foreign-Trade Zones Board

[T-3-2006]

Foreign-Trade Zone 86—Tacoma, WA; Temporary/Interim Manufacturing Authority; Norvanco International Inc./Panasonic Consumer Electronics Co. (Kitting of Home Theater Systems); Notice of Approval

On September 26, 2006, the Acting Executive Secretary of the Foreign-Trade Zones Board filed an application submitted by the Port of Tacoma (Washington), grantee of Foreign-Trade Zone (FTZ) 86, requesting temporary/interim manufacturing (T/IM) authority for Norvanco International Inc. (Norvanco) to process (kit) certain imported components into home theater systems on behalf of the company's client, Panasonic Consumer Electronics Co., within Site 6 of FTZ 86, at Norvanco's facility located in Sumner, Washington.

The application was processed in accordance with T/IM procedures, as authorized by FTZ Board Order 1347, including notice in the Federal Register inviting public comment (71 FR 58372, 10/3/06). The FTZ staff examiner reviewed the application and determined that it meets the criteria for approval under T/IM procedures. Pursuant to the authority delegated to the FTZ Board Executive Secretary in Board Order 1347, the application was approved on a modified basis, effective November 6, 2006, until November 6, 2008, subject to the FTZ Act and the Board's regulations, including Section 400.28. The pre-approval modification to the application involved limiting the requested T/IM inputs to merchandise classifiable within HTSUS categories 8518.21 and 8518.22.

Dated: November 21, 2006.
Pierre V. Duy,
Acting Executive Secretary.

[FR Doc. E6-20290 Filed 11-29-06; 8:45 am]

BILLING CODE 3510-DS-P